NUCLEAR REGULATORY COMMISSION

National Bureau of Standards Reactor

[Docket No. 50-184; NRC-2009-0305]

Notice of Issuance of Renewed Facility License No. TR-5

The U.S. Nuclear Regulatory Commission (NRC) has issued renewed Facility Operating License No. TR-5, held by the National Institute of Standards and Technology (the licensee), which authorizes continued operation of the National Bureau of Standards Reactor (NBSR), located in Gaithersburg, Montgomery County, Maryland. The NBSR is a tank-type, heavy-water-moderated-and-cooled test reactor licensed to operate at a steady-state power level of 20 megawatts thermal power. Renewed Facility Operating License No. TR-5 will expire at midnight 20 years from its date of issuance.

The renewed license complies with the standards and requirements of the Atomic Energy Act of 1954, as amended (the Act), and the Commission's rules and regulations. The Commission has made appropriate findings as required by the Act and the Commission's regulations in Title 10, Chapter 1, “Nuclear Regulatory Commission,” of the Code of Federal Regulations (10 CFR), and sets forth those findings in the renewed license. The agency afforded an opportunity for hearing in the Notice of Opportunity for Hearing published in the Federal Register on September 21, 2004 (69 FR 56462). The NRC received no request for a hearing or petition for leave to intervene following the notice.

The NRC staff prepared a safety evaluation report for the renewal of Facility License No. TR-5 and concluded, based on that evaluation, that the licensee can continue to operate the facility without endangering the health and safety of the public. The NRC staff also prepared a final Environmental Impact Statement for license renewal, noticed in the Federal Register on December 13, 2007 (72 FR 70900), and concluded that renewal of the license will not have a significant impact on the quality of the human environment.

For details with respect to the application for renewal, see the licensee's letter dated April 9, 2004 (ADAMS Accession Nos. ML041120167, ML041120179, ML041120201, ML041120205, ML041120206, ML041120207, ML041120210, ML041120216, ML041120217, ML041120221, ML041120225, ML041120229, ML041120233, ML041120234, ML041120235, ML041120237, ML041120239, ML041120241, ML041120244, ML041120247, ML041120250), as supplemented on October 2, 2006 (ADAMS Accession No. ML062850511), May 30 (ADAMS Accession No. ML071570459) and August 14, 2007 (ADAMS Accession No. ML072390261), September 16 (ADAMS Accession No. ML082890338), October 21 (ADAMS Accession No. ML083030209), and December 8, 2008 (ADAMS Accession No. ML083510754), and March 3 (ADAMS Accession No. ML090700132), March 19 (ADAMS Accession No. ML090890327), and April 22, 2009 (ADAMS Accession Nos. ML091190451 and ML091190464). Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the NRC Web site, http://www.nrc.gov/reading-rm/adams.html. Persons who do not have access to ADAMS or who encounter problems in accessing the documents located in ADAMS should contact the NRC PDR Reference staff at 1-800-397-4209 or 301-415-4737, or send an e-mail to pdr@nrc.gov.

Dated at Rockville, Maryland, this 2nd day of July 2009.
For the Nuclear Regulatory Commission.
Kathryn M. Brock,
Chief, Research and Test Reactors Branch A, Division of Policy and Rulemaking, Office of Nuclear Reactor Regulation.

[FR Doc. E9-16350 Filed 7-9-09; 8:45 am]

BILLING CODE 7590-01-P